DEPARTMENT OF AGRICULTURE

Forest Service

Information Collection; National Woodland Owner Survey

AGENCY: Forest Service, USDA.

ACTION: Notice; request for comment.

SUMMARY: In accordance with the Paperwork Reduction Act of 1995, the Forest Service is seeking comments from all interested individuals and organizations on a previously approved information collection, “National Woodland Owner Survey” that is being reinstated with change. This information collection will help the Forest Service assess the sustainability of forest resources of the United States, determine opportunities and constraints of private woodland owners, and facilitate planning and implementation of forest policies and programs. Information will be collected from private woodland owners of the United States.

DATES: Comments must be received in writing on or before October 15, 2001 to be assured of consideration. Comments received after this date will be considered to the extent practicable.

ADDRESSES: Comments concerning this notice should be addressed to Brett Butler, Northeastern Research Station, USDA Forest Service, 11 Campus Blvd., Suite 200, Newtown Square, PA 19073. Comments also may be submitted via facsimile to (610) 557-4250 or by e-mail to bbutler01@fs.fed.us.

The public may inspect comments received at 11 Campus Blvd., Suite 200, Room 2040, Newtown Square, PA. Visitors are encouraged to call ahead to (610) 557-4045 to facilitate entry to the building. Additionally, comments can be viewed on the internet at http://www.fs.fed.us/woodlandowners.

FOR FURTHER INFORMATION CONTACT: Brett Butler, Northeastern Research Station, (610) 557-4045, bbutler01@fs.fed.us, or Mary Ann Ball, Forest Service Information Collection Coordinator, (703) 605-4572, maryball@fs.fed.us. Individuals who use telecommunication devices for the deaf (TDD) may call the Federal Information Relay Service (FIRS) at 1-800-877-8339 between 8 a.m. and 8 p.m., Eastern Standard Time, Monday through Friday.

SUPPLEMENTARY INFORMATION: Title: National Woodland Owner Survey.

OMB Number: 0596-0078.

Expiration Date of Approval: October 31, 1997.

Type of Request: Reinstatement, with change, of a previously approved information collection for which Office of Management and Budget approval has expired.

Abstract: The National Woodland Owner Survey will collect data to assess the sustainability of the forest resources of the United States, determine the opportunities and constraints that private woodland owners typically face, and facilitate the planning and implementation of forest policies and programs. The Forest and Rangeland Renewable Resources Planning Act of 1974 (Pub. L. 93-278) and the Forest and Rangeland Renewable Resources Act of 1978 (Pub. L. 95-307) are the legal authorities for conducting the National Woodland Owner Survey. These acts assign responsibility for the inventory and assessment of forest and related renewable resources to the Forest Services United States Department of Agriculture (USDA). Additionally, the importance of an ownership survey in this inventory and assessment process was highlighted in Section 253(c) of the Agricultural Research, Extension, and Education Reform Act of 1998, and the recommendations of the Second Blue Ribbon Panel on the Forest Inventory and Analysis Program.

The Forest Service's Forest Inventory and Analysis program has conducted the National Woodland Owner Survey on a periodic basis since 1978. The National Woodland Owner Survey collects information to help answer questions related to the characteristics of the landholdings and landowners, ownership objectives, the supply of timber and non-timber products, forest management practices, delivery of education and financial assistance, and the concerns/constraints perceived by the landowners. The information collected has provided widely cited benchmarks of the private woodland owners in the U.S. These results have been used to assess the sustainability of forest resources at national, regional, and state levels; implement and assess the success of woodland owner assistance programs; and answer a variety of questions with topics ranging from fragmentation to the economics of private timber production.

The respondents will be a statistically selected group of individuals, American Indian tribes, partnerships, corporations, nonprofit organizations, and clubs that own woodland in the U.S. This group will be selected by using public records to collect the names and addresses from a systematic set of points identified as woodland from across the U.S. The number of landowners contacted in each state will be a function of the total number of landowners in the state and the variability of the size of the owners' woodland holdings.

Respondents will be asked to answer questions that address: (1) Acres of woodland owned in a given state and sub-state areas, and number of parcels of woodland owned; (2) acquisition and deposition of woodland, form of ownership, whether or not the woodland is a part of a farm; and if so, the size of the farm, whether or not the woodland is a part of a primary residence or secondary residence; reasons for owning woodland, leasing/renting of woodland; (3) existence and restrictions of conservation easements; knowledge and participation in green certification programs; (4) participation in cost-share programs; (5) who makes management decisions; (6) types and reasons for timber harvests, types, and uses of non-timber collections, and types of cultural/management activities; (7) who, if anyone, do they consult for advice, what methods would they find the most useful for learning about managing their woodland, what are their concerns about their woodland from both cultural and biophysical threats, how do they intend to use their woodland in the future; and (8) demographics including age, gender, ethnicity, race, disability, education, income, and occupation. The respondents will be asked to provide additional comments, if any, in the space provided.

The information collection will collect data using a mixed-mode survey technique that will involve a self-administered mail questionnaire and telephone interviews. First, a prenotice letter will be mailed to all potential respondents describing this information collection—why we are doing it and why we need their help. Second, a questionnaire with a cover letter will be mailed to the potential respondents. The cover letter will reiterate the purpose and importance of this information collection and provide the respondents with legally required information. Third, a reminder will be mailed to thank the respondents and encourage the non-respondents to respond. The last stage of the mail portion of the information collection will be mailing a second questionnaire and cover letter. Telephone interviews will be used for follow-up surveys of the non-respondents to ensure that a response rate of 80 percent is achieved in each state and territory. The questionnaire and interviews will be available in English and Spanish. An electronic version of the questionnaire will also be available to reduce the burden on respondents.

The Forest Service's Forest Inventory and Analysis program will administer the mail portion of this information collection. The Human Dimensions Research Lab, Department of Forestry, Wildlife, and Fisheries, University of Tennessee will administer the telephone interview portion of the information collection.

The Forest Service's Forest Inventory and Analysis Program will compile and edit, and then analyze the collected data. The USDA Forest Service's Forest Inventory and Analysis program will analyze the collected data. At a minimum, national and regional reports of the data will be distributed through print and electronic media. In addition, the data will be made available to the public. The publicly released data will be formatted to ensure the anonymity of the respondents.

The National Woodland Owner Survey was last implemented in 1994 and the data from that information collection indicated that there were 10 million private woodland ownerships in the U.S., composed of a diverse and dynamic group of people. Revisions are planned to increase the reliability of the estimates and ask questions about emerging topics such as green certification and conservation easements for the next information collection. These gathered data are not available from other sources.

This information collection will help in providing the users with reliable and current data and sources. The information collected will result in good planning and implementation of programs, complete assessments of the country's resources, and generally reliable information in this important and very dynamic segment of the U.S. population.

Estimate of Annual Burden: 15 minutes.

Type of Respondents: Individuals, American Indian tribes, partnerships, corporations, nonprofit organizations, and clubs that own woodland.

Estimated Annual Number of Respondents: 10,000 private woodland owners.

Estimated Annual Number of Responses per Respondent: One (1) response per respondent.

Estimated Total Annual Burden on Respondents: 2,500 hours.

Comment Is Invited

Comment is invited on: (1) Whether this collection of information is necessary for the stated purposes and the proper performance of the functions of the agency, including whether the information will have practical or scientific utility; (2) the accuracy of the agency's estimate of the burden of the collection of information, including the validity of the methodology and assumptions used; (3) ways to enhance the quality, utility, and clarity of the information to be collected; and (4) ways to minimize the burden of the collection of information on respondents, including the use of automated, electronic, mechanical, or other technological collection techniques, or other forms of information technology.

All comments received in response to this notice, including names and addresses when provided, will be a matter of public record. Comments will be summarized and included in the submission for Office of Management and Budget approval.

Dated: August 8, 2001.
Robert Lewis, Jr.,
Deputy Chief for Research & Development.

[FR Doc. 01-20675 Filed 8-15-01; 8:45 am]

BILLING CODE 3410-11-P